DEPARTMENT OF TRANSPORTATION

Maritime Administration

46 CFR Part 393

[Docket No. MARAD-2008-0096]

RIN 2133-AB70

America's Marine Highway Program: Stay of Effectiveness

AGENCY: Maritime Administration, DOT.

ACTION: Interim Final Rule: Stay of effectiveness.

SUMMARY: On October 9, 2008, this rulemaking was initially published. This rulemaking requires congressional review. Therefore, the Maritime Administration must stay the effectiveness of the regulations. The stay does not otherwise change the October 9, 2008, rulemaking specifically soliciting Marine Highway Corridor Recommendations and public comment on the proposed America's Marine Highways Program.

DATES: Effective December 30, 2008, 46 CFR part 393 is stayed until January 5, 2009.

Comment Date: At this time, the Maritime Administration is accepting recommendations on Marine Highway Corridors and public comment on the proposed America's Marine Highway program. We will be soliciting applications for specific Marine Highway Projects once a final rule has been issued. Comments are due on or before February 6, 2009.

ADDRESSES: You may submit comments [identified by DOT Docket Number MARAD-2008-0096] by any of the following methods:

• Web Site: http://www.regulations.gov. Follow the instructions for submitting comments on the electronic docket site.

• Mail: Docket Management Facility; U.S. Department of Transportation, 1200 New Jersey Avenue, SE., Room PL-401, Washington, DC 20590-0001.

• Hand Delivery: Room PL-401 of the Department of Transportation, 1200 New Jersey Avenue, SE., Washington, DC, between 9 a.m. and 5 p.m., Monday through Friday, except Federal holidays.

• Federal eRulemaking Portal: Go to http://www.regulations.gov. Follow the online instructions for submitting comments.

Instructions: All submissions must include the agency name and docket number for this rulemaking. Note that all comments received will be posted without change to http://www.regulations.gov including any personal information provided. Please see the Privacy Act heading under Regulatory Notices.

Docket: For access to the docket to read background documents or comments received, go to http://www.regulations.gov at any time or to Room PL-401 of the Department of Transportation, 1200 New Jersey Avenue, SE., Washington, DC, between 9 a.m. and 5 p.m., Monday through Friday, except Federal holidays.

FOR FURTHER INFORMATION CONTACT: Michael Gordon, Office of Intermodal System Development, Marine Highways and Passenger Services, at (202) 366-5468, via e-mail at michael.gordon@DOT.gov, or by writing to the Office of Marine Highways and Passenger Services, MAR-520, Suite W21-315, 1200 New Jersey Avenue, SE., Washington, DC 20590.

SUPPLEMENTARY INFORMATION:

Background

The rulemaking adding 46 CFR part 393 was published on October 9, 2008 (73 FR 59530). Congestion is one of the single largest threats to America's economic prosperity and way of life. Overall, the Department of Transportation estimates that congestion on our roads, bridges, railways, and in certain ports costs the United States as much as $200 billion a year and this figure will continue to grow. In addition to significant existing congestion, an increasing growth in trade will place even more demands on our capability to move freight and people through an already strained transportation network.

Over the next 15 years, experts project that cargoes moving through our ports will nearly double. Federal Highway Administration, “The Freight Story: A National Perspective on Enhancing Freight Transportation”. Most of this additional cargo will ultimately move along our surface transportation corridors, many of which are already at or beyond capacity. Since 92 percent of all domestic freight currently moves on road and rail infrastructure, the implications of this growth are significant. U.S. Department of Transportation “Freight Analysis Framework”.

The challenge we face is to use all transportation modes available to address the looming crisis. America's Marine Highway can be a viable alternative transportation mode. Expanding the Marine Highway can be cost effective and will require less new infrastructure than surface transportation alternatives, represents significant fuel savings, while offering a resilient and redundant means of transportation. The Marine Highway, consisting of more than 25,000 miles of inland, intracoastal, and coastal waterways, already transports about 1 billion tons of domestic cargo annually, and has considerable room to grow. U.S. Army Corps of Engineers, “Waterborne Commerce of the United States” (2005). The following is an example of the benefit the Marine Highway can offer. An East Coast container-on-barge operation that currently runs between Baltimore, MD, and Norfolk, VA, relieves the busy I-95 and I-64 corridors of almost 2,000 trucks every week. That is equal to 3 lanes of bumper-to-bumper trucks eight miles long for about ⅛ the amount of fuel. Transporting freight by water has traditionally been used for the movement of bulk commodities such as coal, petroleum, grain, and lumber, yet growing freight congestion on certain highway Corridors, combined with innovative approaches, could encourage shippers to consider marine transportation for container cargo.

In many cases, the Marine Highway runs parallel to some of the most congested highway Corridors in the country. On September 10, 2007, the Department of Transportation announced six interstate routes as Corridors of the Future: I-95 from Florida to the Canadian border; I-70 in Missouri, Illinois, Indiana, and Ohio; I-15 in Arizona, Utah, Nevada, and California; I-5 in California, Oregon, and Washington, I-10 from California to Florida, and I-69 from Michigan to Texas. The designation of waterways along some of these and other clogged roadways and rail routes as Marine Highway Corridors could reduce congestion, pollution, and energy usage, increase freight system reliability, and improve the life of citizens who live in proximity to the highway.

The Secretary, in consultation with the EPA, will submit a Report to Congress by December 19, 2008. The report will include a description of the activities conducted under the program, and any recommendations for further legislative or administrative action that the Secretary of Transportation considers appropriate. For complete background and regulatory analysis, see the original document published October 9, 2008 (73 FR 59530).

List of Subjects in 46 CFR Part 393

Marine highway, Short sea transportation, Vessels.

Accordingly, the Maritime Administration amends 46 CFR part 393 as follows:

1. The authority citation for part 393 continues to read as follows:

Authority: Energy Independence and Security Act of 2007, sections 1121, 1122, and 1123 of Public Law 110-140, approved December 19, 2007 (121 Stat. 1492).

PART 393—[STAYED]

2. Effective December 30, 2008, part 393 is stayed until January 5, 2009.

By order of the Secretary.
Dated: December 22, 2008.
Leonard Sutter,
Secretary, Maritime Administration.

[FR Doc. E8-30992 Filed 12-29-08; 8:45 am]

BILLING CODE 4910-81-P